DEPARTMENT OF DEFENSE

48 CFR Chapter 2

Notice of Public Meeting; Utilities Privatization

AGENCY: Department of Defense.

ACTION: Notice of public meeting.

SUMMARY: The Director, Defense Procurement and Acquisition Policy, and the Deputy Under Secretary of Defense, Installations and Environment, are co-sponsoring a public meeting to discuss potential deviations to Federal Acquisition Regulation (FAR) Part 31 (Contract Cost Principles and Procedures) for contracts awarded under the statutory authority at 10 U.S.C. 2688 (Utility systems; conveyance authority). Under the Department of Defense Utilities Privatization Program, by September 2005, the Department will complete a privatization evaluation of each utility system at every Active Duty, Reserve, and Guard installation, within the United States and overseas, that is not designated for closure under a base closure law. The co-sponsors of the meeting would like to hear the views of interested parties regarding which provisions, if any, of FAR part 31 are significantly problematic for utility contractors and the reasons why.

DATES: The meeting will be held on July 21, 2003, from 9 a.m. to 5 p.m., local time.

ADDRESSES: The meeting will be held in Room C-43, Crystal Mall 3, 1931 Jefferson Davis Highway, Arlington, VA 22202.

FOR FURTHER INFORMATION CONTACT: Mr. David Capitano, Office of the Director, Defense Procurement and Acquisition Policy, by telephone at 703-847-7486 or by e-mail at david.capitano@osd.mil.

Michele P. Peterson,
Executive Editor, Defense Acquisition Regulations Council.

[FR Doc. 03-15656 Filed 6-19-03; 8:45 am]

BILLING CODE 5001-08-P